DEPARTMENT OF TRANSPORTATION

National Highway Traffic Safety Administration

[Docket No. NHTSA-2019-0042; Notice 1]

Gillig, LLC, Receipt of Petition for Decision of Inconsequential Noncompliance

AGENCY: National Highway Traffic Safety Administration (NHTSA), Department of Transportation (DOT).

ACTION: Receipt of petition.

SUMMARY: Gillig LLC, has determined that certain model year (MY) 2013-2019 Gillig Low Floor buses do not fully comply with Federal Motor Vehicle Safety Standard (FMVSS) No. 102, Transmission Shift Position Sequence, Starter Interlock, and Transmission Braking Effect. Gillig filed a noncompliance report dated April 1, 2019, and later amended their report on April 23, 2019. Gillig subsequently petitioned NHTSA on May 8, 2019, for a decision that the subject noncompliance is inconsequential as it relates to motor vehicle safety. This notice announces receipt of Gillig's petition.

DATES: Send comments on or before October 21, 2019.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

SUPPLEMENTARY INFORMATION:

I. Overview: Gillig has determined that certain MY 2013-2019 Low Floor buses do not fully comply with paragraph S3.1.3 of FMVSS No. 102, Transmission Shift Position Sequence, Starter Interlock, and Transmission Braking Effect (49 CFR 571.102). Gillig filed a noncompliance report dated April 1, 2019, and later amended their report on April 23, 2019, pursuant to 49 CFR part 573, Defect and Noncompliance Responsibility and Reports. and subsequently petitioned NHTSA on May 8, 2019, for an exemption from the notification and remedy requirement of 49 U.S.C Chapter 301 on the basis that this noncompliance is inconsequential as it relates to motor vehicle safety, pursuant to 49 U.S.C. 30118(d) and 30120(h) and 49 CFR part 556, Exemption for Inconsequential Defect or Noncompliance.

This notice of receipt of Gillig's petition is published under 49 U.S.C. 30118 and 30120 and does not represent any agency decision or other exercises of judgment concerning the merits of the petition.

II. Buses Involved: Approximately 925 MY 2013-2019 Gillig Low Floor buses, manufactured between December 23, 2013, and February 25, 2019, are potentially involved.

III. Noncompliance: Gillig explains that the noncompliance is that the subject buses are equipped with a starter interlock that is operational while the transmission shift position is in a forward or reverse drive position and therefore, does not meet the requirements in paragraph S3.1.3 of FMVSS No. 102.

IV. Rule Requirements: Paragraph S3.1.3 of FMVSS No. 102 provides the requirements relevant to this petition. Except as provided in paragraphs S3.1.3.1 through S3.1.3.3, the engine starter shall be inoperative when the transmission shift position is in a forward or reverse drive position.

V. Summary of Petition: Gillig described the subject noncompliance and stated its belief that the noncompliance is inconsequential as it relates to motor vehicle safety. In support of its petition, Gillig submitted the following reasoning:

1. The potentially non-compliant condition occurs as follows: When the ignition switch is in the ON position, the engine is stopped, the shift selector is in the “Forward” or “Reverse” position, and the start button is depressed, the starter cranks the engine, but the transmission does not engage because, according to ATI, the shifter is in an inhibited state. With the engine running, the vehicle operator must perform four separate actions in a specific sequence to engage the transmission and move the vehicle under power, specifically: (a) place foot on brake (b) select neutral (c) select a gear, and (d) remove foot from foot brake. Fortunately, because the transmission controller defaults the transmission to neutral after an engine start, there is no risk of unintentional vehicle movement, and thus, no safety risk arises as a result of the non-compliant condition.

Gillig concluded that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject buses that Gillig no longer controlled at the time it determined that the noncompliance existed. However, any decision on this petition does not relieve vehicle distributors and dealers of the prohibitions on the sale, offer for sale, or introduction or delivery for introduction into interstate commerce of the noncompliant buses under their control after Gillig notified them that the subject noncompliance existed.

Authority: 49 U.S.C. 30118, 30120: delegations of authority at 49 CFR 1.95 and 501.8.

Otto G. Matheke III,
Director, Office of Vehicle Safety Compliance.

[FR Doc. 2019-20378 Filed 9-19-19; 8:45 am]

BILLING CODE 4910-59-P